DEPARTMENT OF ENERGY

Federal Energy Regulatory Commission

[Docket No. ER01-1535-000, et al.]

Niagara Mohawk Power Corporation, et al., Electric Rate and Corporate Regulation Filings

March 20, 2001.

Take notice that the following filings have been made with the Commission:

1. Niagara Mohawk Power Corporation

[Docket No. ER01-1535-000]

Take notice that on March 15, 2001, Niagara Mohawk Power Corporation tendered for filing a Notice of Cancellation of FERC Rate Schedule No. 108 as regards transmission service heretofore provided by Niagara Mohawk Power Corporation to the Village of Brockton, New York pursuant to FERC Rate Schedule No. 108, effective July 1, 1998.

Niagara Mohawk Power Corporation requests a rate schedule cancellation effective date of December 31, 2000. To the extent necessary, Niagara Mohawk requests waiver of the Commission requirement that a rate schedule be filed not less than 60 days or more than 120 days from its effective date.

Comment date: April 20, 2001, in accordance with Standard Paragraph E at the end of this notice.

2. Niagara Mohawk Power Corporation

[Docket No. ER01-1536-000]

Take notice that on March 15, 2001, Niagara Mohawk Power Corporation tendered for filing a Notice of Cancellation of FERC Rate Schedule No. 103 as regards transmission service heretofore provided by Niagara Mohawk Power Corporation to the Village of Andover, New York pursuant to FERC Rate Schedule No. 103, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

3. Niagara Mohawk Power Corporation

[Docket No. ER01-1537-000]

Take notice that on March 15, 2001, Niagara Mohawk Power Corporation tendered for filing Notice of Cancellation of FERC Rate Schedule No. 114 as regards transmission service heretofore provided by Niagara Mohawk Power Corporation to the Village of Akron, New York pursuant to FERC Rate Schedule No. 114, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

4. Niagara Mohawk Power Corporation

[Docket No. ER01-1538-000]

Take notice that on March 15, 2001, Niagara Mohawk Power Corporation tendered for filing Notice of Cancellation of FERC Rate Schedule No. 137 as regards transmission service heretofore provided by Niagara Mohawk Power Corporation to the Village of Frankfort, New York pursuant to FERC Rate Schedule No. 137, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

5. Niagara Mohawk Power Corporation

[Docket No. ER01-1539-000]

Take notice that on March 15, 2001, Niagara Mohawk Power Corporation tendered for filing Notice of Cancellation of FERC Rate Schedule No. 112 as regards transmission service heretofore provided by Niagara Mohawk Power Corporation to the Village of Churchville, New York pursuant to FERC Rate Schedule No. 112, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

6. Niagara Mohawk Power Corporation

[Docket No. ER01-1540-000]

Take notice that on March 15, 2001, Niagara Mohawk Power Corporation tendered for filing Notice of Cancellation of FERC Rate Schedule No. 110 as regards transmission service heretofore provided by Niagara Mohawk Power Corporation to the Village of Boonville, New York pursuant to FERC Rate Schedule No. 110, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

7. Niagara Mohawk Power Corporation

[Docket No. ER01-1541-000]

Take notice that on March 15, 2001, Niagara Mohawk Power Corporation tendered for filing Notice of Cancellation of FERC Rate Schedule No. 119 as regards transmission service heretofore provided by Niagara Mohawk Power Corporation to the Village of Holley, New York pursuant to FERC Rate Schedule No. 119, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

8. Niagara Mohawk Power Corporation

[Docket No. ER01-1542-000]

Take notice that on March 15, 2001, Niagara Mohawk Power Corporation tendered for filing Notice of Cancellation of FERC Rate Schedule No. 104 as regards transmission service heretofore provided by Niagara Mohawk Power Corporation to the Village of Arcade, New York pursuant to FERC Rate Schedule No. 104, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

9. Niagara Mohawk Power Corporation

[Docket No. ER01-1543-000]

Take notice that on March 15, 2001, Niagara Mohawk Power Corporation tendered for filing a Notice of Cancellation of FERC Rate Schedule No. 106 as regards transmission service heretofore provided by Niagara Mohawk Power Corporation to the Village of Ilion, New York pursuant to FERC Rate Schedule No. 106, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

10. Niagara Mohawk Power Corporation

[Docket No. ER01-1544-000]

Take notice that on March 15, 2001, Niagara Mohawk Power Corporation tendered for filing Notice of Cancellation of FERC Rate Schedule No. 107 as regards transmission service heretofore provided by Niagara Mohawk Power Corporation to the Village of Little Valley, New York pursuant to FERC Rate Schedule No. 107, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

11. Niagara Mohawk Power Corporation

[Docket No. ER01-1545-000]

Take notice that on March 15, 2001, Niagara Mohawk Power Corporation tendered for filing a Notice of Cancellation of FERC Rate Schedule No. 121 as regards transmission service heretofore provided by Niagara Mohawk Power Corporation to the Village of Mohawk, New York pursuant to FERC Rate Schedule No. 121, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

12. Niagara Mohawk Power Corporation

[Docket No. ER01-1546-000]

Take notice that on March 15, 2001, Niagara Mohawk Power Corporation tendered for filing Notice of Cancellation of FERC Rate Schedule No. 113 as regards transmission service heretofore provided by Niagara Mohawk Power Corporation to the Village of Philadelphia, New York pursuant to FERC Rate Schedule No. 113, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

13. Niagara Mohawk Power Corporation

[Docket No. ER01-1547-000]

Take notice that on March 15, 2001, Niagara Mohawk Power Corporation tendered for filing Notice of Cancellation of FERC Rate Schedule No. 109 as regards transmission service heretofore provided by Niagara Mohawk Power Corporation to the Village of Salamanca, New York pursuant to FERC Rate Schedule No. 109, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

14. Niagara Mohawk Power Corporation

[Docket No. ER01-1548-000]

Take notice that on March 15, 2001, Niagara Mohawk Power Corporation tendered for filing Notice of Cancellation of FERC Rate Schedule No. 136 as regards transmission service heretofore provided by Niagara Mohawk Power Corporation to the Village of Skaneateles, New York pursuant to FERC Rate Schedule No. 136, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

15. Niagara Mohawk Power Corporation

[Docket No. ER01-1549-000]

Take notice that on March 15, 2001, Niagara Mohawk Power Corporation tendered for filing Notice of Cancellation of FERC Rate Schedule No. 111 as regards transmission service heretofore provided by Niagara Mohawk Power Corporation to the Village of Wellsville, New York pursuant to FERC Rate Schedule No. 111, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

16. Niagara Mohawk Power Corporation

[Docket No. ER01-1550-000]

Take notice that on March 15, 2001, Niagara Mohawk Power Corporation tendered for filing Notice of Cancellation of FERC Rate Schedule No. 105 as regards transmission service heretofore provided by Niagara Mohawk Power Corporation to the Village of Springville, New York pursuant to FERC Rate Schedule No. 105, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

17. Niagara Mohawk Power Corporation

[Docket No. ER01-1551-000]

Take notice that on March 15, 2001, Niagara Mohawk Power Corporation tendered for filing Notice of Cancellation of FERC Rate Schedule No. 116 as regards transmission service heretofore provided by Niagara Mohawk Power Corporation to the Village of Theresa, New York pursuant to FERC Rate Schedule No. 116, effective July 1, 1998.

Niagara Mohawk Power Corporation requests a rate schedule cancellation effective date of December 31, 2000. To the extent necessary, Niagara Mohawk requests waiver of the Commission requirement that a rate schedule be filed not less than 60 days or more than 120 days from its effective date.

Comment date: April 5, 2001, in accordance with Standard Paragraph E at the end of this notice.

18. Idaho Power Company

[Docket No. ER01-1552-000]

Take notice that on March 15, 2001, Idaho Power Company (IPC), tendered for filing with the Federal Energy Regulatory Commission a Service Agreement for Firm Point-to-Point Transmission Service between Idaho Power Company and Conoco Gas and Power Marketing, a Division of Conoco Inc.

Comment date: April 5, 2001, in accordance with Standard Paragraph E at the end of this notice.

19. Idaho Power Company

[Docket No. ER01-1553-000]

Take notice that on March 15, 2001, Idaho Power Company (IPC), tendered for filing with the Federal Energy Regulatory Commission a Service Agreement for Firm and Non-Firm Point-to-Point Transmission Service between Idaho Power Company and Merchant Energy Group of the Americas.

Comment date: April 5, 2001, in accordance with Standard Paragraph E at the end of this notice.

20. Southern Company Services, Inc.

[Docket No. ER01-668-002]

Take notice that on March 14, 2001, Southern Company Services, Inc., acting on behalf of Alabama Power Company, Georgia Power Company, Gulf Power Company, Mississippi Power Company, and Savannah Electric and Power Company (collectively referred to as Southern Companies), tendered for filing in compliance with the Federal Energy Regulatory Commission's Order in Southern Company Services, Inc., 94 FERC ¶ 61,131 (2001). In that order, the Commission accepted, subject to modification, an amendment to the Open Access Transmission Tariff of Southern Companies (FERC Electric Tariff, Fourth Revised Volume No. 5) (Tariff).

The purpose of the amendment was to incorporate into the Tariff specific Creditworthiness criteria, Procedures for Obtaining Interconnection Service, and Source and Sink Requirements for Point-to-Point Transmission Service. The Order required that several revisions be made to the Interconnection Procedures, established an effective date of February 13, 2001, and otherwise accepted the amendment for filing. In their compliance filing (a copy of which is posted on their OASIS site), Southern Companies incorporated those changes into the Tariff.

Comment date: April 4, 2001, in accordance with Standard Paragraph E at the end of this notice.

21. GenPower Earleys, LLC

[Docket No. EG01-152-000]

Take notice that on March 15, 2001, GenPower Earleys, LLC (Applicant), a Delaware limited liability company, whose address is 1040 Great Plain Avenue, Needham, MA, filed with the Federal Energy Regulatory Commission an application for determination of exempt wholesale generator status pursuant to Part 365 of the Commission's regulations.

Applicant intends to construct an approximate 640 MW natural gas-fired combined cycle independent power production facility in Hartford County, North Carolina (the Facility). The Facility is currently under development and will be owned by Applicant. Electric energy produced by the Facility will be sold by Applicant to the wholesale power market in the southern United States.

Comment date: April 10, 2001, in accordance with Standard Paragraph E at the end of this notice. The Commission will limit its consideration of comments to those that concern the adequacy or accuracy of the application.

22. PPL Wallingford Energy LLC

[Docket No. EG01-153-000]

Take notice that on March 15, 2001, PPL Wallingford Energy LLC (Applicant), having its principal place of business at Two North Ninth Street, Allentown, Pennsylvania 18101, filed with the Federal Energy Regulatory Commission (Commission) an application for determination of exempt wholesale generator status pursuant to Part 365 of the Commission's regulations.

The Applicant is a Connecticut limited liability company formed for the purpose of operating a 250 MW natural gas-fired generation facility located in Wallingford, Connecticut. The Applicant is an indirect subsidiary of PPL Corporation, a public utility holding company exempt from registration under Section 3(a)(1) of the Public Utility Holding Company Act of 1935.

Comment date: April 10, 2001, in accordance with Standard Paragraph E at the end of this notice. The Commission will limit its consideration of comments to those that concern the adequacy or accuracy of the application.

23. PPL Leasing Company, LLC

[Docket No. EG01-154-000]

Take notice that on March 15, 2001, PPL Leasing Company, LLC (Applicant), having its principal place of business at Two North Ninth Street, Allentown, PA 18101, filed with the Federal Energy Regulatory Commission (Commission) an application for determination of exempt wholesale generator status pursuant to Part 365 of the Commission's regulations.

The Applicant is a Connecticut limited liability company formed for the purpose of owning five natural gas-fired turbines located in Wallingford, Connecticut and leasing those turbines to PPL Wallingford Energy LLC. The Applicant is an indirect subsidiary of PPL Corporation, a public utility holding company exempt from registration under Section 3(a)(1) of the Public Utility Holding Company Act of 1935.

Comment date: April 10, 2001, in accordance with Standard Paragraph E at the end of this notice. The Commission will limit its consideration of comments to those that concern the adequacy or accuracy of the application.

24. Northern Iowa Windpower LLC

[Docket No. EG01-155-000]

Take notice that on March 16, 2001, Northern Iowa Windpower LLC (Northern Iowa) filed with the Federal Energy Regulatory Commission an Application for Determination of Exempt Wholesale Generator Status pursuant to part 365 of the Commission's regulations.

Northern Iowa is developing a wind-powered eligible facility with a capacity of 80 megawatts, powered by approximately eighty-nine (89) wind turbine generators, which will be located in Worth County, Iowa.

Comment date: April 10, 2001, in accordance with Standard Paragraph E at the end of this notice. The Commission will limit its consideration of comments to those that concern the adequacy or accuracy of the application.

25. Rail Energy of Montana, LLC

[Docket No. EG01-156-000]

Take notice that on March 16, 2001, Rail Energy of Montana (REM), a Montana limited liability company, 101 International Way, Missoula, MT, 59807 filed with the Federal Energy Regulatory Commission as application for determination of exempt wholesale generator status pursuant to Part 365 of the Commission's regulations.

REM is engaged directly and exclusively in the business of owning and operating all or part of one or more eligible facilities and selling electric energy and capacity at wholesale. REM intends to produce electricity using idle locomotives. REM is owned by Commercial Energy of Montana and Montana Rail Link.

Comment date: April 10, 2001, in accordance with Standard Paragraph E at the end of this notice. The Commission will limit its consideration of comments to those that concern the adequacy or accuracy of the application.

26. PPL Leasing Company, LLC

[Docket No. EL01-53-000]

Take notice that on March 15, 2001, PPL Leasing Company, LLC filed with the Federal Energy Regulatory Commission a Petition for Declaratory Order Disclaiming Jurisdiction.

Comment date: April 6, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-7453 Filed 3-23-01; 8:45 am]

BILLING CODE 6717-01-U